DEPARTMENT OF HOMELAND SECURITY

Federal Emergency Management Agency

[Docket ID FEMA-2014-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: October 31, 2014.
Roy E. Wright,
Deputy Associate Administrator for Mitigation, Department of Homeland Security, Federal Emergency Management Agency.

State and county | Location and case No. | Chief executive officer of community | Community map repository | Effective date of modification | Community No.
Alabama:
Autauga (FEMA Docket No.: B-1428) | City of Prattville (14-04-4875P) | The Honorable Bill Gillespie, Jr., Mayor, City of Prattville, 101 West Main Street, Prattville, AL 36067 | Planning and Development Department, City Hall Annex, 102 West Main Street, Prattville, AL 36067 | September 22, 2014 | 010002
Autauga (FEMA Docket No.: B-1428) | City of Prattville (14-04-4876P) | The Honorable Bill Gillespie, Jr., Mayor, City of Prattville, 101 West Main Street, Prattville, AL 36067 | Planning and Development Department, City Hall Annex, 102 West Main Street, Prattville, AL 36067 | September 22, 2014 | 010002
Autauga (FEMA Docket No.: B-1428) | Unincorporated areas of Autauga County (14-04-4875P) | The Honorable Carl Johnson, Chairman, Autauga County Board of Commissioners, 135 North Court Street, Suite B, Prattville, AL 36067 | Autauga County Emergency Management Agency, 826 Gillespie Street, Prattville, AL 36067 | September 22, 2014 | 010314
Autauga (FEMA Docket No.: B-1428) | Unincorporated areas of Autauga County (14-04-4876P) | The Honorable Carl Johnson, Chairman, Autauga County Board of Commissioners, 135 North Court Street, Suite B, Prattville, AL 36067 | Autauga County Emergency Management Agency, 826 Gillespie Street, Prattville, AL 36067 | September 22, 2014 | 010314
Houston (FEMA Docket No.: B-1423) | City of Dothan (14-04-2072P) | The Honorable Mike Schmitz, Mayor, City of Dothan, P.O. Box 2128, Dothan, AL 36302 | Engineering Department, 126 North St. Andrews Street, Dothan, AL 36302 | September 11, 2014 | 010104
Arizona:
Maricopa (FEMA Docket No.: B-1428) | Town of Buckeye (14-09-0978P) | The Honorable Jackie A. Meck, Mayor, Town of Buckeye, 530 East Monroe Avenue, Buckeye, AZ 85326 | Town Hall, 100 North Apache Street, Suite A, Buckeye, AZ 85326 | September 12, 2014 | 040039
Mohave (FEMA Docket No.: B-1423) | Unincorporated areas of Mohave County (14-09-0399P) | The Honorable Gary Watson, Chairman, Mohave County Board of the Supervisors, 700 West Beale Street, Kingman, AZ 86402 | Mohave County Planning Department, 700 West Beale Street, Kingman, AZ 86402 | August 29, 2014 | 040058
Pima (FEMA Docket No.: B-1428) | Unincorporated areas of Pima County (14-09-1215P) | The Honorable Sharon Bronson, Chair, Pima County Board of Supervisors, 130 West Congress Street, 11th Floor, Tucson, AZ 85701 | Pima County Flood Control District, 97 East Congress Street, 3rd Floor, Tucson, AZ 85701 | September 3, 2014 | 040073
Pinal (FEMA Docket No.: B-1428) | Unincorporated areas of Pinal County (13-09-1389P) | The Honorable Anthony Smith, Chairman, Pinal County Board of Supervisors, P.O. Box 827, Florence, AZ 85132 | Pinal County Engineering Department, 31 North Pinal Street, Building F, Florence, AZ 85232 | September 12, 2014 | 040077
Colorado:
Adams (FEMA Docket No.: B-1423) | City of Thornton (14-08-0032P) | The Honorable Heidi Williams, Mayor, City of Thornton, 9500 Civic Center Drive, Thornton, CO 80229 | City Hall, 9500 Civic Center Drive, Thornton, CO 80229 | August 29, 2014 | 080007
Arapahoe (FEMA Docket No.: B-1423) | City of Centennial (13-08-1142P) | The Honorable Cathy Noon, Mayor, City of Centennial, 13133 East Arapahoe Road, Centennial, CO 80112 | Southeast Metro Stormwater Authority, 76 Inverness Drive East, Suite A, Centennial, CO 80112 | September 5, 2014 | 080315
Arapahoe (FEMA Docket No.: B-1423) | Unincorporated areas of Arapahoe County (13-08-1142P) | The Honorable Nancy Doty, Chair, Arapahoe County Board of Commissioners, 5334 South Prince Street, Littleton, CO 80120 | Arapahoe County Public Works and Development Department, 6924 South Lima Street, Centennial, CO 80112 | September 5, 2014 | 080011
Douglas (FEMA Docket No.: B-1423) | Town of Castle Rock (13-08-1316P) | The Honorable Paul Donahue, Mayor, Town of Castle Rock, 100 North Wilcox Street, Castle Rock, CO 80104 | Utilities Department, 175 Kellogg Court, Castle Rock, CO 80109 | September 5, 2014 | 080050
Douglas (FEMA Docket No.: B-1423) | Unincorporated areas of Douglas County (13-08-1316P) | The Honorable Roger Partridge, Chairman, Douglas County Board of Commissioners, 100 3rd Street, Castle Rock, CO 80104 | Douglas County Public Works Department, 100 3rd Street, Castle Rock, CO 80104 | September 5, 2014 | 080049
Florida:
Brevard (FEMA Docket No.: B-1423) | City of Cocoa Beach (13-04-8100P) | The Honorable Dave Netterstrom, Mayor, City of Cocoa Beach, 2 South Orlando Avenue, Cocoa Beach, FL 32931 | Building Department, 2 South Orlando Avenue, Cocoa Beach, FL 32931 | September 11, 2014 | 125097
Brevard (FEMA Docket No.: B-1423) | Unincorporated areas of Brevard County (13-04-8100P) | The Honorable Mary Bolin Lewis, Chair, Brevard County Board of Commissioners, 2725 Judge Fran Jamieson Way, Viera, FL 32940 | Brevard County Public Works Department, 2725 Judge Fran Jamieson Way, Viera, FL 32940 | September 11, 2014 | 125092
Manatee (FEMA Docket No.: B-1423) | City of Bradenton (14-04-1057P) | The Honorable Wayne H. Poston, Mayor, City of Bradenton, 101 Old Main Street, Bradenton, FL 34205 | City Hall, 101 Old Main Street, Bradenton, FL 34205 | August 29, 2014 | 120155
Monroe (FEMA Docket No.: B-1428) | City of Marathon (14-04-4871P) | The Honorable Dick Ramsay, Mayor, City of Marathon, 9805 Overseas Highway, Marathon, FL 33050 | Planning Department, 9805 Overseas Highway, Marathon, FL 33050 | September 12, 2014 | 120681
Orange (FEMA Docket No.: B-1435) | City of Orlando (14-04-3140P) | The Honorable Buddy Dyer, Mayor, City of Orlando, P.O. Box 4990, Orlando, FL 32802 | Permitting Services Department, 400 South Orange Avenue, Orlando, FL 32801 | September 5, 2014 | 120186
Osceola (FEMA Docket No.: B-1423) | Unincorporated areas of Osceola County (13-04-8297P) | The Honorable Fred Hawkins, Jr., Chairman, Osceola County Board of Commissioners, 1 Courthouse Square, Kissimmee, FL 34741 | Osceola County Stormwater Section, 1 Courthouse Square, Kissimmee, FL 34741 | September 5, 2014 | 120189
Sarasota (FEMA Docket No.: B-1423) | City of Sarasota (13-04-5178P) | The Honorable Shannon Snyder, Mayor, City of Sarasota, 1565 1st Street, Sarasota, FL 34236 | City Hall, 1565 1st Street, Sarasota, FL 34236 | August 29, 2014 | 125150
Seminole (FEMA Docket No.: B-1428) | Unincorporated areas of Seminole County (14-04-0226P) | The Honorable Bob Dallari, Chairman, Seminole County Board of Commissioners, 1101 East 1st Street, Sanford, FL 32771 | Building Division, 1101 East 1st Street, Sanford, FL 32771 | September 12, 2014 | 120289
Georgia:
Columbia (FEMA Docket No.: B-1423) | Unincorporated areas of Columbia County (14-04-3712P) | The Honorable Ron C. Cross, Chairman, Columbia County Board of Commissioners, P.O. Box 498, Evans, GA 30809 | Columbia County Planning Commission, 650-B Ronald Reagan Drive, Evans, GA 30809 | September 11, 2014 | 130059
Hawaii:
Hawaii (FEMA Docket No.: B-1428) | Hawaii County (13-09-2726P) | The Honorable William P. Kenoi, Mayor, Hawaii County, 25 Aupuni Street, Hilo, HI 96720 | Hawaii County Department of Public Works, 101 Pauahi Street, Suite 7, Hilo, HI 96720 | September 22, 2014 | 155166
Kansas:
Johnson (FEMA Docket No.: B-1423) | City of Overland Park (13-07-2288P) | The Honorable Carl Gerlach, Mayor, City of Overland Park, 8500 Santa Fe Drive, Overland Park, KS 66212 | City Hall, 8500 Santa Fe Drive, Overland Park, KS 66212 | August 27, 2014 | 200174
Johnson (FEMA Docket No.: B-1423) | Unincorporated areas of Johnson County (13-07-2288P) | The Honorable Ed Eilert, Chairman, Johnson County Board of Commissioners, 111 South Cherry, Suite 3300, Olathe, KS 66061 | Johnson County Courthouse, Planning Office, 111 South Cherry, Suite 3500, Olathe, KS 66061 | August 27, 2014 | 200159
Montana:
Silver Bow (FEMA Docket No.: B-1423) | Unincorporated areas of Butte-Silver Bow County (13-08-1393P) | The Honorable Cindi Shaw, Chair, Butte-Silver Bow County Council of Commissioners, 155 West Granite Street, Butte, MT 59701 | Butte-Silver Bow County Floodplain Administrator, 155 West Granite Street, Butte, MT 59701 | August 29, 2014 | 300077
Nevada:
Clark (FEMA Docket No.: B-1428) | Unincorporated areas of Clark County (14-09-0768P) | The Honorable Steve Sisolak, Chairman, Clark County Board of Commissioners, 500 South Grand Central Parkway, Las Vegas, NV 89155 | Clark County Public Works Department, 500 South Grand Central Parkway, Las Vegas, NV 89155 | September 10, 2014 | 320003
Washoe (FEMA Docket No.: B-1428) | City of Reno (14-09-0059P) | The Honorable Robert Cashell, Mayor, City of Reno, P.O. Box 1900, Reno, NV 89505 | City Hall, 450 Sinclair Street, Reno, NV 89501 | August 21, 2014 | 320020
North Carolina:
Wake (FEMA Docket No.: B-1411) | Town of Cary (13-04-5160P) | The Honorable Harold Weinbrecht, Mayor, Town of Cary, P.O. Box 8005, Cary, NC 27512 | Town Hall, 316 North Academy Street, Cary, NC 27512 | May 29, 2014 | 370238
Wake (FEMA Docket No.: B-1411) | Town of Cary (13-04-5161P) | The Honorable Harold Weinbrecht, Mayor, Town of Cary, P.O. Box 8005, Cary, NC 27512 | Town Hall, 316 North Academy Street, Cary, NC 27512 | May 29, 2014 | 370238
Wake (FEMA Docket No.: B-1411) | Town of Cary (13-04-5162P) | The Honorable Harold Weinbrecht, Mayor, Town of Cary, P.O. Box 8005, Cary, NC 27512 | Town Hall, 316 North Academy Street, Cary, NC 27512 | May 29, 2014 | 370238
Wake (FEMA Docket No.: B-1411) | Town of Cary (13-04-5163P) | The Honorable Harold Weinbrecht, Mayor, Town of Cary, P.O. Box 8005, Cary, NC 27512 | Town Hall, 316 North Academy Street, Cary, NC 27512 | May 29, 2014 | 370238
Wake (FEMA Docket No.: B-1411) | Unincorporated areas of Wake County (13-04-5161P) | The Honorable Joe Bryan, Chairman, Wake County Board of Commissioners, P.O. Box 550, Raleigh, NC 27602 | Wake County Office Building, 336 Fayetteville Street, Raleigh, NC 27602 | May 29, 2014 | 370368
Wake (FEMA Docket No.: B-1411) | Unincorporated areas of Wake County (13-04-5943P) | The Honorable Joe Bryan, Chairman, Wake County Board of Commissioners, P.O. Box 550, Raleigh, NC 27602 | Wake County Office Building, 336 Fayetteville Street, Raleigh, NC 27602 | May 29, 2014 | 370368
North Dakota:
Stark, (FEMA Docket No.:, B-1428) | City of Dickinson, (14-08-0354P) | The Honorable Dennis W. Johnson, Mayor, City of Dickinson, 99 2nd Street East, Dickinson, ND 58601 | Building Department, 99 2nd Street East, Dickinson, ND 58601 | September 5, 2014 | 380117
Stark (FEMA Docket No.: B-1428) | Unincorporated areas of Stark County (14-08-0354P) | The Honorable Russ Hoff, Chairman, Stark County Board of Commissioners, P.O. Box 130, Dickinson, ND 58602 | Stark County Recorder, 51 3rd Street East, Dickinson, ND 58602 | September 5, 2014 | 385369
South Carolina:
Jasper (FEMA Docket No.: B-1428) | Town of Hardeeville (14-04-1941P) | The Honorable Bronco Bostick, Mayor, Town of Hardeeville, 205 East Main Street, Hardeeville, SC 29927 | City Hall, 205 Main Street, Hardeeville, SC 29927 | September 18, 2014 | 450113
Jasper (FEMA Docket No.: B-1428) | Unincorporated areas of Jasper County (14-04-1941P) | The Honorable Barbara Clark, Chair, Jasper County Council, P.O. Box 1149, Ridgeland, SC 29936 | Jasper County Planning Department, 358 3rd Avenue, Ridgeland, SC 29936 | September 18, 2014 | 450112
Richland (FEMA Docket No.: B-1428) | Unincorporated areas of Richland County (13-04-8158P) | The Honorable Norman Jackson, Chairman, Richland County Council, P.O. Box 90617, Columbia, SC 29209 | Richland County Courthouse, 1701 Main Street, Columbia, SC 29202 | September 15, 2014 | 450170
Utah:
Salt Lake (FEMA Docket No.: B-1428) | City of West Jordan (13-08-1221P) | The Honorable Kim V. Rolfe, Mayor, City of West Jordan, 8000 South Redwood Road, West Jordan, UT 84088 | City Hall, 8000 South Redwood Road, West Jordan, UT 84088 | September 11, 2014 | 490108
Weber (FEMA Docket No.: B-1428) | City of Ogden (13-08-0663P) | The Honorable Mike Caldwell, Mayor, City of Ogden, 2549 Washington Boulevard, Ogden, UT 84401 | City Hall, 2549 Washington Boulevard, Ogden, UT 84401 | September 22, 2014 | 490189

[FR Doc. 2014-29563 Filed 12-16-14; 8:45 am]

BILLING CODE 9110-12-P